NATIONAL FOUNDATION ON THE ARTS AND THE HUMANITIES

Institute of Museum and Library Services

Notice of Proposed Information Collection Requests: Studies To Support Institute of Museum and Library Services' Learning Agendas for Libraries and Museums

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments about the proposed data collection for “Studies to Support IMLS's Learning Agendas for Libraries and Museums.” A copy of the proposed information collection request can be obtained using the contact information listed below in the ADDRESSES section of this Notice.

DATES: Written comments must be submitted to the office listed in the ADDRESSES section below on or before January 02, 2025.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Lisa Hechtman, Ph.D., Social Science Research Analyst, Office of Research and Evaluation, Institute of Museum and Library Services, 955 L'Enfant Plaza North SW, Suite 4000, Washington DC 20024-2135. Dr. Hechtman can be reached by telephone at 202-653-4724, or by email at lhechtman@imls.gov. Persons who are deaf or hard of hearing (TTY users) can contact IMLS at 202-207-7858 via 711 for TTY-Based Telecommunications Relay Service.

SUPPLEMENTARY INFORMATION: The Institute of Museum and Library Services is the primary source of Federal support for the nation's libraries and museums. We advance, support, and empower America's museums, libraries, and related organizations through grant making, research, and policy development. To learn more, visit www.imls.gov.

Current Actions: This notice proposes the clearance of information collection instruments that support IMLS's Learning Agenda for Libraries and Museums. The 60-day notice was published in the Federal Register on May 22, 2024 (89 FR 45029) (Document Number 2024-11217). IMLS received and responded to one comment requesting a copy of the proposed information collection and expressing interest in providing input. IMLS provided a summary of the research plan, planned activities, and study design.

Agency: Institute of Museum and Library Services.

Title: Studies to Support IMLS's Learning Agendas for Libraries and Museums.

OMB Control Number: 3137-NEW.

Agency Number: 3137.

Respondents/Affected Public: Museum staff, library staff, IMLS awardees, library community partners.

Total Number of Annual Respondents: 234.

Frequency of Response: Once per request.

Average Hours/Minutes per Response: 59 minutes.

Total Estimated Annual Burden Hours: 230.

Total Annual Cost Burden (dollars): $8,397.19.

Total Annual Federal Cost (dollars): $202,582.68.

Dated: November 26, 2024.
Suzanne Mbollo,
Grants Management Specialist, Institute of Museum and Library Services.

[FR Doc. 2024-28202 Filed 11-29-24; 8:45 am]

BILLING CODE 7036-01-P